DEPARTMENT OF COMMERCE

International Trade Administration

[A-588-810]

Mechanical Transfer Presses from Japan: Extension of Time Limit for Preliminary Results of Antidumping Administrative Review

AGENCY: Import Administration, International Trade Administration, Department of Commerce

SUMMARY: The Department of Commerce is extending the time limit for the preliminary results of the administrative review of mechanical transfer presses (MTPs) from Japan until no later than February 28, 2004. The period of review is February 1, 2002 through January 31, 2003. This extension is made pursuant to section 751(a)(3)(A) of the Tariff Act of 1930, as amended (the Act).

EFFECTIVE DATE: October 15, 2003.

FOR FURTHER INFORMATION CONTACT: Jacqueline Arrowsmith, Office of AD/CVD Enforcement VII, Import Administration, International Trade Administration, U.S. Department of Commerce, 14th Street and Constitution Avenue, NW, Washington DC 20230; telephone: (202) 482-5255.

SUPPLEMENTARY INFORMATION:

Background

On February 16, 1990, the Department issued an antidumping duty order on mechanical transfer presses from Japan. See Antidumping Duty Order: Mechanical Transfer Presses from Japan, 55 FR 5642 (February 16, 1990). The term “mechanical transfer presses” refers to automatic metal-forming machine tools with multiple die stations in which the work piece is moved from station to station by a transfer mechanism designed as an integral part of the press and synchronized with the press action, whether imported as machines or parts suitable for use solely or principally with these machines. These presses may be imported assembled or unassembled. See Mechanical Transfer Presses from Japan: Final Results of Antidumping Administrative Review 68 FR 39515.

On February 24, 2003, the Department of Commerce (the Department) received a timely request for administrative review of the antidumping duty order on MTPs from Japan from respondent Hitatchi Zosen Corporation (HZC), and its subsidiary Hitatchi Zosen Fukui Corporation d/b/a H&F Corporation (H&F). On February 27, 2003, the Department received a timely request from the petitioner, IHI-Verson Press Technology, LLC, for an administrative review of HZC and H&F. On February 28, 2003, HZC and H&F submitted a request that the Department revoke the order with respect to HZC and H&F based on the absence of dumping in three consecutive reviews. On March 25, 2003, the Department published a notice of initiation of this administrative review, covering the period of February 1, 2002 through January 31, 2003 (see 68 FR 14394), for HZC and its subsidiary H&F. The preliminary results for HZC/H&F are currently due no later than October 31, 2003.

Extension of Time Limits for Preliminary Results

As a result of the fact that mechanical transfer presses are unique to each customer because they are designed to detailed specifications, there are complex issues with respect to normal value. In addition, HZC/H&F has requested revocation with respect to the order. Given these facts, it is not practicable to complete this review within the time limits mandated by section 751(a)(3)(A) of the Act. The Department is therefore extending the time period for issuing the preliminary results of this review by 120 days, from October 31, 2003, until no later than February 28, 2004, in accordance with section 751(a)(3)(A) of the Act. The final results continue to be due 120 days after the publication of the preliminary results. This notice is published pursuant to sections 751(a)(3)(A) and 777(I)(1) of the Act.

Dated: October 7, 2003.
Richard O. Weible,
Acting Deputy Assistant Secretary for Import Administration, Group III.

[FR Doc. 03-26079 Filed 10-14-03; 8:45 am]

BILLING CODE 3510-DS-S